DEPARTMENT OF TRANSPORTATION

National Highway Traffic Safety Administration

[Docket No. NHTSA-2012-0029]

Reports, Forms, and Recordkeeping Requirements

AGENCY: National Highway Traffic Safety Administration, DOT.

ACTION: Notice and request for comments.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Written comments should be submitted by May 18, 2012.

ADDRESSES: You may submit comments [identified by Docket No. NHTSA-2012-0029] through one of the following methods:

• Federal eRulemaking Portal: http://www.regulations.gov. Follow the online instructions for submitting comments.

• Fax: 1-(202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Michael Pyne, 202-366-4171, Office of Rulemaking (NVS-123), 1200 New Jersey Avenue SE., W43-457, Washington, DC, 20590.

SUPPLEMENTARY INFORMATION: OMB Control Number: 2127-0621.

Title: 49 CFR 571.403, Platform lift systems for motor vehicles and 49 CFR 571.404, Platform lift installations in motor vehicles.

Form Numbers: None.

Type of Review: Renewal of a previously approved information Collection.

Background

FMVSS No. 403, Platform lift systems for motor vehicle, establishes minimum performance standards for platform lifts designed for installation on motor vehicles. Its purpose is to prevent injuries and fatalities to passengers and bystanders during the operation of platform lifts that assist wheelchair users and other persons with limited mobility in entering and leaving a vehicle. FMVSS No. 404, Platform lift installations in motor vehicles, places specific requirements on vehicle manufacturers or alterers who install platform lifts in new vehicles. Under these regulations, lift manufacturers must certify that their lifts meet the requirements of FMVSS No. 403 and must declare the certification on the owner's manual insert, the installation instructions and the lift operating instruction label. Certification of compliance with FMVSS No. 404 is on the certification label already required of vehicle manufacturers and alterers under 49 CFR part 567. Therefore, lift manufacturers must produce an insert that is placed in the vehicle owner's manual, installation instructions and one or two labels that are placed near the controls of the lift. The requirements and our estimates of burden and cost to the lift manufacturers are given below. There is no burden to the general public.

Respondents: Platform lift manufacturers and vehicle manufacturers/alterers that install platform lifts in new motor vehicles before first vehicle sale.

Estimated Number of Respondents: 10.

Estimated Total Annual Burden

Estimated burden to lift manufacturers to produce an insert for the vehicle owner's manual stating the lift's platform operating volume, maintenance schedule, and instructions regarding the lift operating procedures:

—10 manufacturers × 24 hrs. amortized over 5 yrs. = 48 hrs. per year.

Estimated burden to lift manufacturers to produce lift installation instructions identifying the vehicles on which the lift is designed to be installed:

—10 manufacturers × 24 hrs. amortized over 5 yrs. = 48 hrs. per year.

Estimated burden to lift manufacturers to produce two labels for operating and backup lift operation:

—10 manufacturers × 24 hrs. amortized over 5 yrs. = 48 hrs. per year.

Estimated burden to lift manufacturers to produce two labels for operating and backup lift operation:

—10 manufacturers × 24 hrs. amortized over 5 yrs. = 48 hrs. per year.

Estimated cost to lift manufacturers to produce:

—Label for operating instructions—27,398 lifts × $0.13 per label = $3,561.74.

—Label for backup operations—27,398 lifts × $0.13 per label = $3,561.74.

—Owner's manual insert—27, 398 lifts × $0.04 per page × 1 page = $1,095.92.

—Installation instructions—27,398 lifts × $0.04 per page × 1 page = $1,095.92.

Note: Although lift installation instructions are considerably more than one page, lift manufacturers already provide lift installation instructions in the normal course of business and one additional page should be adequate to allow the inclusion of FMVSS specific information.

Total estimated annual cost = $9,315.32.

Total estimated hour burden per year = 144 hours.

Estimated Number of Respondents: 10.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. chapter 35, as amended; and 49 CFR 1.48.

Issued on: March 13, 2012.
Nathaniel Beuse,
Director, Office of Crash Avoidance Standards.

[FR Doc. 2012-6534 Filed 3-16-12; 8:45 am]

BILLING CODE 4910-59-P